DEPARTMENT OF ENERGY

Federal Energy Regulatory Commission

[Docket No. EL20-21-000]

Complaint of Michael Mabee Related to Critical Infrastructure Reliability Standard; Notice of Supplemented Complaint

Take notice that on February 19, 2020, pursuant to section 215(d) of the Federal Power Act, 16 U.S.C. 824o(d) and Rule 206 of the Federal Energy Regulatory Commission's (Commission) Rules of Practice and Procedure, 18 CFR 385.206 (2019), Michael Mabee, (Complainant) filed supplemental information and additional recommendations for the record, as a supplement to the formal complaint filed on January 30, 2020, as more fully explained in the supplement to the complaint.

Complainant certifies that copies of the Complaint were served on the contacts as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. All interventions, or protests must be filed on or before the comment date.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for electronic review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 Eastern Time on March 10, 2020.

Dated: February 24, 2020.
Kimberly D. Bose,
Secretary.

[FR Doc. 2020-04126 Filed 2-27-20; 8:45 am]

BILLING CODE 6717-01-P